DEPARTMENT OF DEFENSE

Department of the Army

[Docket ID USA-2011-0026]

Proposed Collection; Comment Request

AGENCY: Department of the Army, DoD.

ACTION: Notice.

SUMMARY: In compliance with section 3506(c)(2)(A) of the Paperwork Reduction Act of 1995, the Department of the Army announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by January 23, 2012.

ADDRESSES: You may submit comments, identified by docket number and title, by any of the following methods:

• Federal e-Rulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number, and title for this Federal Register notice. The general policy for comments and other submissions from members of the public is to make these submissions available for public viewing on the Internet at http://www.regulations.gov as they are received without change, including any personal identifiers or contact information.

FOR FURTHER INFORMATION CONTACT: To request more information on this proposed information collection or to obtain a copy of the proposal and associated collection instructions, please write to the Project Manager (PM) Department of Defense (DoD) Biometrics, 200 Stovall St., Alexandria, VA 22332.

Title and OMB Control Number: Forward Deployed Biometrics Collection; OMB Control Number 0702-TBD.

Needs and Uses: This information collection requirement is needed for DoD in forward deployments to verify or identify individuals encountered in DoD areas of responsibility (AOR) and determine, based on information maintained by DoD, whether that individual, poses a threat to DoD's logical or physical assets, or is a threat to national security. As such, DoD has developed biometric information systems capable of collecting and storing biometric images, associated biographic and contextual information; matching biometrics against local and external biometric galleries; displaying the results of the biometric searches; and as appropriate issuing credentials that contains the individual's identity.

Affected Public: Individuals or households.

Annual Burden Hours: 23,295.

Number of Respondents: 301,580.

Responses per Respondent: 1.

Average Burden per Response: 4.6 minutes.

Frequency: On occasion.

SUPPLEMENTARY INFORMATION:

Summary of Information Collection

This collection supports DoD by verifying or identifying individuals such as terrorists, combatants, makers of explosive devices, detainees, criminals, locally employed non-U.S. person and other persons of interest. Such identification helps military operations including detainee management and questioning, base access, counterintelligence screening, border control, displaced persons management and a host of other missions.

Dated: November 17, 2011.
Patricia L. Toppings,
OSD Federal Register Liaison Officer, Department of Defense.

[FR Doc. 2011-30166 Filed 11-22-11; 8:45 am]

BILLING CODE 5001-06-P